DEPARTMENT OF COMMERCE

National Oceanic and Atmospheric Administration

[RTID 0648-XD821]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council including a joint session with the Atlantic States Marine Fisheries Commission (ASMFC) Summer Flounder, Scup, and Black Sea Bass Management Board.

DATES: The meetings will be held Tuesday, April 9 through Thursday, April 11, 2024. For agenda details, see SUPPLEMENTARY INFORMATION.

ADDRESSES: This meeting will be an in-person meeting with a virtual option. Council members, other meeting participants, and members of the public will have the option to participate in person at The Sheraton Atlantic City Convention Center Hotel or virtually via Webex webinar. Webinar connection instructions and briefing materials will be available at: https://www.mafmc.org/briefing/april-2024.

Meeting address: Sheraton Atlantic City Convention Center Hotel, 2 Convention Blvd., Atlantic City, NJ 08401.

Council address: Mid-Atlantic Fishery Management Council, 800 N State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org, also has details on the meeting location, proposed agenda, webinar listen-in access, and briefing materials.

SUPPLEMENTARY INFORMATION: The following items are on the agenda, although agenda items may be addressed out of order (changes will be noted on the Council's website when possible.)

Tuesday, April 9, 2024

Proposed Rule To Update Regulations Associated With the Magnuson-Stevens Fishery Conservation and Management Act's Confidentiality Requirements—NOAA Fisheries Staff

Presentation and opportunity for questions/feedback.

Offshore Wind Fisheries Compensation Programs

Summary of fishery information requirement for compensation eligibility.

Data needs and challenges.

Consider potential Council action.

2024 State of the Ecosystem Report—Dr. Sarah Gaichas, NEFSC

Review and provide feedback.

2024 Ecosystem Approach to Fisheries Management (EAFM) Risk Assessment Report

Review draft report and provide feedback for further development.

Habitat Activities Update—Greater Atlantic Regional Fisheries Office Habitat and Ecosystem Services Division

Presentation on activities of interest (aquaculture, wind, and other projects) in the region.

Wednesday, April 10, 2024

Joint MAFMC/NEFMC Framework To Reduce Atlantic Sturgeon Interactions in the Monkfish/Dogfish Gillnet Fisheries: Final Action

Review recommendations from the FMAT/PDT, Dogfish and Monkfish Advisory Panels, and joint Dogfish and Monkfish Committee.

Review alternatives and impacts analyses.

Select preferred alternatives and take final action.

NTAP Progress Report for Industry-Based Survey Pilot Program

Review and provide feedback.

LUNCH

Golden Tilefish Catch Share Program Review

Review public comments received.

Approve program review and submit to NOAA Fisheries.

Review recommendations from the Oversight Team and discuss next steps.

Golden Tilefish Assessment Overview—Pual Nitschke, NEFSC

Overview of recently completed Research Track Stock Assessment.

Impacts of Offshore Wind Energy Construction Sounds on Behavior of Longfin Squid and Black Sea Bass—Aran Mooney, Woods Hole Oceanographic Institution

Review research on impacts of sound and behavior of longfin squid and black sea bass.

Summer Flounder Commercial Mesh Exemptions Framework Meeting #1 (With ASMFC SFSBSB Board)

Review preliminary analysis and public input.

Approve draft range of alternatives for further analysis.

Thursday, April 11, 2024

Business Session

Committee Reports (SSC); Executive Director's Report; Organization Reports; and Liaison Reports.

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Shelley Spedden, (302) 526-5251, at least 5 days prior to the meeting date.

Authority: 16 U.S.C. 1801 et seq.

Dated: March 19, 2024.
Diane M. DeJames-Daly,
Acting Deputy Director, Office of Sustainable Fisheries, National Marine Fisheries Service.

[FR Doc. 2024-06116 Filed 3-21-24; 8:45 am]

BILLING CODE 3510-22-P